NUCLEAR REGULATORY COMMISSION

[NRC-2017-0133]

Information Collection: Nondiscrimination in Federally Assisted Commission Programs

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Nondiscrimination in Federally Assisted Commission Programs.”

DATES: Submit comments by November 17, 2017.

ADDRESSES: Submit comments directly to the OMB reviewer at: Aaron Szabo, Desk Officer, Office of Information and Regulatory Affairs (NRC-2017-0133), NEOB-10202, Office of Management and Budget, Washington, DC 20503; telephone: 202-395-3621, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2017-0133 when contacting the NRC about the availability of information for this action. You may obtain publicly-available information related to this action by any of the following methods:

• Federal Rulemaking Web site: Go to http://www.regulations.gov and search for Docket ID NRC-2017-0133.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession Nos. ML17215A811 and ML17215A813, respectively. The supporting statement and Cumulative Occupational Exposure History is available in ADAMS under Accession No. ML17215A807.

• NRC's PDR: You may examine and purchase copies of public documents at the NRC's PDR, Room O1-F21, One White Flint North, 11555 Rockville Pike, and Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@nrc.gov.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that the NRC does not routinely edit comment submissions to remove such information before making the comment submissions available to the public or entering the comment submissions into ADAMS.

II. Background

Under the provisions of the Paperwork Reduction Act of 1995 (44 U.S.C. Chapter 35), the NRC recently submitted a request for renewal of an existing collection of information to OMB for review entitled, “10 CFR part 4, Nondiscrimination in Federally Assisted Commission Programs.” The NRC hereby informs potential respondents that an agency may not conduct or sponsor, and that a person is not required to respond to, a collection of information unless it displays a currently valid OMB control number.

The NRC published a Federal Register notice with a 60-day comment period on this information collection on June 14, 2017, (82 FR 27291).

1. The title of the information collection: “Nondiscrimination in Federally Assisted Commission Programs.

2. OMB approval number: 3150-0053.

3. Type of submission: Extension.

4. The form number if applicable: NRC Form 781 and 782.

5. How often the collection is required or requested: Provisions for this collection are covered in § 4.331 of title 10 of the Code of Federal Regulations (10 CFR) Compliance Reviews, which indicates that the NRC may conduct compliance reviews and Pre-Award reviews of recipients or use other similar procedures that will permit it to investigate and correct violations of the act and these regulations. The NRC may conduct these reviews even in absence of a complaint against a recipient. The reviews may be as comprehensive as necessary to determine whether a violation of these regulations has occurred.

6. Who will be required or asked to respond: Recipients of Federal Financial Assistance provided by the NRC (including Educational Institutions, Other Nonprofit Organizations receiving Federal Assistance, and Agreement States).

7. The estimated number of annual responses: 600.

8. The estimated number of annual respondents: 200.

9. An estimate of the total number of hours needed annually to comply with the information collection requirement or request: 3,600 (3,000 hrs. for reporting (5 hrs. per respondent) and 600 hrs. for recordkeeping (3 hrs. per record keeper).

10. Abstract: The regulations under 10 CFR part 4 implement the provisions of the Title VI of the Civil Rights of 1964, Public Law 88-352; (78 Stat. 241; 42 U.S.C. 2000a note), Title IV of the Energy Reorganization Act of 1974, Public Law 93-438, (88 stat. 1233; 42 U.S.C. 580 note), which relate to nondiscrimination with respect to race, color, national origin or sex in any program or activity receiving Federal Financial assistance from NRC; Section 504 or the Rehabilitation Act of 1973, as amended, Public Law 93-112 (87 Stat. 355; 29 U.S.C. 701 note), Public Law 95-602 (92 Stat. 2955; 29 U.S.C. 701 note, which relates to nondiscrimination with respect to disability in any program or activity receiving Federal financial assistance; and the Age Discrimination Act of 1975, as amended, Public Law 94-135 (89 Stat. 713; 42 U.S.C. 3001 note), Public Law 95-478 (92 Stat. 1513; 42 U.S.C. 3001 note), which relates to nondiscrimination on the basis of age in any program or activity receiving Federal financial assistance.

Dated at Rockville, Maryland, this 12th day of October 2017.
For the Nuclear Regulatory Commission.
David Cullison,
NRC Clearance Officer, Office of the Chief Information Officer.

[FR Doc. 2017-22448 Filed 10-16-17; 8:45 am]

BILLING CODE 7590-01-P